EQUAL EMPLOYMENT OPPORTUNITY COMMISSION

Sunshine Act Meeting

agency holding the meeting: Equal Employment Opportunity Commission.

date and time: Tuesday, October 25, 2005, 9:30 a.m., eastern time.

place: Clarence M. Mitchell, Jr., Conference Room on the Ninth Floor of the EEOC, Office Building, 1801 “L” Street, NW., Washington, DC 20507.

status: The meeting will be open to the public.

matters to be considered:

Open Session

1. Announcement of Notation Votes, and

2. Emergency Preparedness and Individuals with Disabilities: Is the Workplace Ready?

Note: In accordance with the Sunshine Act, the meeting will be open to the public observation of the Commission's deliberations and voting. (In addition to publishing notices on EEOC Commission meetings in Federal Register, the Commission also provides a recorded announcement a full week in advance on future Commission sessions.)

Please telephone (202) 663-7100 (voice) and (202) 663-4074 (TTY) at any time for information on these meetings. contact person for more information: Stephen Llewellyn, Acting Executive Officer on (202) 663-4070.

This notice issued October 13, 2005.
Stephen Llewellyn,
Acting Executive Officer, Executive Secretariat.

[FR Doc. 05-20954 Filed 10-14-05; 4:06 pm]

BILLING CODE 6750-06-M